ENVIRONMENTAL PROTECTION AGENCY

[EPA-HQ-OA-2025-0172; FRL-12735-01-OA]

Agency Information Collection Activities; Proposed Information Collection Request; Comment Request; Focus Groups as Used by EPA for Economics Projects (Renewal)

AGENCY: Environmental Protection Agency (EPA).

ACTION: Notice.

SUMMARY: The Environmental Protection Agency (EPA) is planning to submit an information collection request (ICR), Focus Groups as Used by EPA for Economics Projects (Renewal), (EPA ICR Number 2205.23, OMB Control Number 2090-0028) to the Office of Management and Budget (OMB) for review and approval in accordance with the Paperwork Reduction Act. Before doing so, EPA is soliciting public comments on specific aspects of the proposed information collection as described below. This is a proposed renewal of the ICR, which is currently approved through October 10, 2025. This notice allows for 60 days for public comments.

DATES: Comments must be submitted on or before October 27, 2025.

ADDRESSES: Submit your comments, referencing Docket ID Number HQ-OA-2025-0172, to EPA online using www.regulations.gov (our preferred method), by email, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Chris Moore, Office of Policy (MC1809T), Environmental Protection Agency, 1200 Pennsylvania Ave. NW, Washington, DC 20460; telephone number: 202-566-2348; email address: moore.chris@epa.gov.

SUPPLEMENTARY INFORMATION: This is a proposed renewal of the ICR, which is currently approved through October 10, 2025. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: EPA is seeking renewal of a generic information collection request (ICR) for the conduct of focus groups and protocol interviews (hereafter jointly referred to as focus groups) related to economics projects. Over the next three years, the Agency anticipates engaging in survey development and other efforts associated with a variety of economics projects including those related to drinking water quality, firm compliance responses and impacts, health risk impacts, to name a few. Focus groups are an important source of information and part of any survey development process, allowing researchers to directly gauge how firms and households understand and engage with specific issues and provide a means for explicitly testing draft survey materials. Through these focus groups, the Agency will be able to gain a more in-depth understanding how firms and the public understand and approach to specific issues and will provide valuable information regarding the quality of draft survey instruments.

The information collected in the focus groups will be used primarily to develop and improve economics-related surveys. To the extent that these surveys are ultimately approved and successfully administered, they will serve to expand the Agency's understanding of benefits and costs of a variety of actions and could provide the means to quantitatively assess the effects of others. Participation in the focus groups will be voluntary and the identity of the participants will be kept confidential.

Form Numbers: None.

Respondents/affected entities: Individuals.

Respondent's obligation to respond: Voluntary.

Estimated number of respondents: 432 (total).

Frequency of response: Once.

Total estimated burden: 288 hours (per year). Burden is defined at 5 CFR 1320.03(b).

Total estimated cost: $0 (per year), which includes $0 annualized capital or operation & maintenance costs.

Changes in the Estimates: The request for TBD total burden hours represents a decrease of 1,314 (=2,178-864) hours in the total estimated burden currently identified in the OMB Inventory of Approved ICR Burdens. Burden estimates derived for this (and the previous) renewal are based on projected use estimates for this generic ICR provided by the various program offices at EPA. These projections are based on anticipated, new and continuing projects over the coming three years. A decrease in burden over the previous ICR conveys simply that EPA anticipates less need for the conduct of focus groups under this ICR than in the past.

Alex Marten,
Acting Office Director, National Center for Environmental Economics, Office of Policy.

[FR Doc. 2025-16478 Filed 8-27-25; 8:45 am]

BILLING CODE 6560-50-P